SOCIAL SECURITY ADMINISTRATION

Agency Information Collection Activities: Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB) Office of Management and Budget, Attn: Desk Officer for SSA, Fax: 202-395-6974.

(SSA) Social Security Administration, DCFAM, Attn: Reports Clearance Officer, 1333 Annex Building, 6401 Security Blvd., Baltimore, MD 21235, Fax: 410-965-6400.

The information collection listed below has been submitted to OMB for clearance. Your comments on the information collections would be most useful if received by OMB and SSA within 30 days from the date of this publication. You can obtain a copy of the OMB clearance packages by calling the SSA Reports Clearance Officer at 410-965-0454 or by writing to the address listed above.

Request for Review by a Federal Reviewing Official—20 CFR 405.1, 405.120, 405.210, 405.215, 405.220, 405.225, 405.230—0960-NEW. In cases where an applicant for Disability Insurance Benefits (DIB) or Supplemental Security Income (SSI) payments is not satisfied with SSA's initial disability determination, he or she may request a review by a Federal reviewing official to determine entitlement to DIB (Title II), and SSI (Title XVI). The SSA-61 will be used to document and initiate this request. The respondents are applicants for DIB and/or SSI who received a notice and are requesting a review by a Federal reviewing official.

Type of Request: Request for a new information collection.

Number of Respondents: 29,043.

Frequency of Response: 1.

Average Burden Per Response: 8 minutes.

Estimated Annual Burden: 3,872 hours.

Dated: June 1, 2006.
Elizabeth A. Davidson,
Reports Clearance Officer, Social Security Administration.

[FR Doc. E6-8798 Filed 6-7-06; 8:45 am]

BILLING CODE 4191-02-P